FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 18, 2012.

A. Federal Reserve Bank of New York (Ivan Hurwitz, Vice President) 33 Liberty Street, New York, New York 10045-0001:

1. Giannoulias 2011 Checkspring Trust, Chicago, Illinois and Endy D. Zemenides, as trustee, to acquire control of CheckSpring Community Corporation, and thereby indirectly acquire control of CheckSpring Bank, both of Bronx, New York.

B. Federal Reserve Bank of Kansas City (Dennis Denney, Assistant Vice President) 1 Memorial Drive, Kansas City, Missouri 64198-0001:

1. Travis Carr, Andover, Kansas, to retain shares and remain a member of the Carr Family Group, which controls Community State Bancshares, Inc., and thereby control Community Bank of Wichita, Inc., both in Wichita, Kansas.

Board of Governors of the Federal Reserve System, March 30, 2012.
Robert deV. Frierson,
Deputy Secretary of the Board.

[FR Doc. 2012-8118 Filed 4-4-12; 8:45 am]

BILLING CODE 6210-01-P